DEPARTMENT OF COMMERCE

[I.D. 091503D]

Submission for OMB Review; Comment Request

The Department of Commerce has submitted to the Office of Management and Budget (OMB) for clearance the following proposal for collection of information under the provisions of the Paperwork Reduction Act (44 U.S.C. Chapter 35).

Agency: National Oceanic and Atmospheric Administration.

Title: Subsistence Fishery for Pacific Halibut in Waters Off Alaska: Annual Survey.

Form Number(s): None.

OMB Approval Number: None.

Type of Request: Regular submission.

Burden Hours: 4,450.

Number of Respondents: 8,900.

Average Hours Per Response: 30 minutes.

Needs and Uses: This collection of information would be a pilot for an annual harvest survey for a subsistence Pacific halibut program. The program is intended to allow qualified persons to practice the long-term customary and traditional harvest of Pacific halibut for food in a non-commercial manner.

Affected Public: Individuals or households.

Frequency: One-time.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: September 12, 2003
Gwellnar Banks,
Management Analyst, Office of the Chief Information Officer.

[FR Doc. 03-23869 Filed 9-17-03; 8:45 am]

BILLING CODE 3510-22-S